DEPARTMENT OF THE INTERIOR

Bureau of Land Management

[LLORV00000-L10200000.DD0000; HAG 9-0205]

Notice of Meeting, John Day/Snake Advisory Council

AGENCY: Bureau of Land Management, Interior.

ACTION: Notice of public meeting.

SUMMARY: Pursuant to the Federal Land Policy and Management Act and the Federal Advisory Committee Act, the U.S. Department of the Interior, Bureau of Land Management (BLM) John Day-Snake Resource Advisory Council (JDSRAC) will meet as indicated below:

DATES: The meeting will begin at 7 p.m. (Pacific Daylight Time) on June 30, 2009.

ADDRESSES: The JDSRAC will meet by teleconference. For a copy of material to be discussed or the conference call number, please contact the BLM Vale District; information below.

FOR FURTHER INFORMATION CONTACT: Mark Wilkening, Public Affairs Officer, BLM Vale District Office, 100 Oregon Street, Vale, Oregon 97918, (541) 473-6218.

SUPPLEMENTARY INFORMATION: The JDSRAC will conduct a public meeting by teleconference to discuss and come to consensus on contents of a letter to be sent to the Oregon/Washington BLM State Director on the Draft Environmental Impact Statement for Vegetation Treatments Using Herbicides on BLM Lands in Oregon. The conference call meeting is open for the public to access by telephone. Public comment is scheduled from 7:45 to 8 p.m. (Pacific Daylight Time) June 30, 2009. For a copy of the information distributed to the JDSRAC members please contact Mark Wilkening.

Dated: June 2, 2009.
Michael L. Morcom,
Acting District Manager, Vale District Office.

[FR Doc. E9-13847 Filed 6-11-09; 8:45 am]

BILLING CODE 4310-33-P